DEPARTMENT OF HEALTH AND HUMAN SERVICES

[Document Identifier: OS-0990-0382; 30-day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer, faxed to OMB at 202-395-5806.

Proposed Project: Evaluation of Pregnancy Prevention Approaches: Follow-Up Data Collection—Revision—OMB No. 0990-0382—Office of Adolescent Health.

Abstract: The Office of Adolescent Health (OAH), Office of the Assistant Secretary for Health (OASH), U.S. Department of Health and Human Services (HHS), is requesting approval by OMB on a revised data collection. OAH is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH is overseeing the Pregnancy Prevention Approaches Evaluation (PPA). The PPA Evaluation is a random assignment evaluation, which will expand available evidence on effective ways to reduce teen pregnancy. The evaluation will document and test a range of pregnancy prevention approaches in up to seven program sites. The findings from this evaluation will be of interest to the general public, to policy-makers, and to organizations interested in teen pregnancy prevention.

OAH is proposing a data collection activity as part of the PPA Evaluation. The proposed activity involves the collection of follow-up data from a self-administered questionnaire, which will be analyzed to determine program effects. Through a survey instrument, respondents will be asked to answer carefully selected questions about demographics and risk and protective factors related to teen pregnancy. Respondents: The data will be collected through private, phone-administered questionnaires with study participants, i.e. adolescents assigned to a select school or community teen pregnancy prevention program or control group. Trained professional staff will administer a paper and pencil survey over the phone.

Estimated Annualized Burden Table
Site/program | Type of respondent | Annualized number respondents | Number of responses per respondent | Average burden hours per response (fraction of an hour) | Total burden hours (annual)
Chicago Public Schools/Health Teacher | Participating Youth and Control Group Youth | 1308 | 1 | 36/60 | 785
OhioHealth/T.O.P.P.:
6 months | Participating Youth and Control Group Youth | 170 | 1 | 42/60 | 119
18 months | Participating Youth and Control Group Youth | 164 | 1 | 42/60 | 115
Children's Hospital of Los Angeles/Project AIM | Participating Youth and Control Group Youth | 453 | 1 | 36/60 | 272
Oklahoma Institute of Child Advocacy/Power Through Choices:
Immediate post-test | Participating Youth and Control Group Youth | 306 | 1 | 36/60 | 184
6 month follow-up | Participating Youth and Control Group Youth | 306 | 1 | 36/60 | 184
EngenderHealth | Participating Youth and Control Group Youth | 319 | 1 | 36/60 | 191
Live the Life Ministries/WAIT Training | Participating Youth and Control Group Youth | 453 | 1 | 42/60 | 317
Princeton Center for Leadership Training (PCLT)/TeenPEP | Participating Youth and Control Group Youth | 453 | 1 | 36/60 | 272
Total |  | 3,932* (2,012) |  |  | 2,439* (1,286)
Second Follow-up
Chicago Public Schools/Health Teacher | Participating Youth and Control Group Youth | 1231 | 1 | 36/60 | 739
OhioHealth/T.O.P.P. | Participating Youth and Control Group Youth | 160 | 1 | 42/60 | 112
Children's Hospital of Los Angeles/Project AIM | Participating Youth and Control Group Youth | 427 | 1 | 36/60 | 256
Oklahoma Institute of Child Advocacy/Power Through Choices | Participating Youth and Control Group Youth | 288 | 1 | 36/60 | 173
Engender Health/Gender Matters | Participating Youth and Control Group Youth | 300 | 1 | 36/60 | 180
Live the Life Ministries/WAIT Training | Participating Youth and Control Group Youth | 427 | 1 | 42/60 | 299
Princeton Center for Leadership Training (PCLT)/TeenPEP | Participating Youth and Control Group Youth | 427 | 1 | 36/60 | 256
Total |  | 3,260 |  |  | 2,015
* Includes estimates for Chicago and Oklahoma (n = 1920; hours = 1153), which were included in a previous submission (approval received September 27, 2011).

Keith A. Tucker,
Office of the Secretary, Paperwork Reduction Act Clearance Officer.

[FR Doc. 2012-4830 Filed 2-28-12; 8:45 am]

BILLING CODE 4150-30-P